DEPARTMENT OF HOMELAND SECURITY

Coast Guard

33 CFR Part 165

[Docket No. USCG-2017-0594]

Safety Zone; Upper Ohio Valley Italian Heritage Festival/Upper Ohio Valley Italian Heritage Festival Fireworks, Wheeling, WV

AGENCY: Coast Guard, DHS.

ACTION: Notice of enforcement of regulation.

SUMMARY: The Coast Guard will enforce a safety zone for the Upper Ohio Valley Italian Heritage Festival/Upper Ohio Valley Italian Heritage Festival Fireworks on the Ohio River mile 90.0 to 90.5. The safety zone is necessary to provide for the safety of life and to protect vessels from the hazards associated with the “Upper Ohio Valley Italian Heritage Festival/Upper Ohio Valley Italian Heritage Festival Fireworks” land-based fireworks display. During the enforcement period, entry into the safety zone is prohibited for all vessels not registered with the sponsor as participants or official patrol vessels, unless specifically authorized by the Captain of the Port Marine Safety Unit Pittsburgh (COTP) or a designated representative.

DATES: The regulations in 33 CFR 165.801, Table 1, line 14, will be enforced from 9 p.m. through 10:30 p.m., on July 22, 2017.

FOR FURTHER INFORMATION CONTACT: If you have questions about this notice of enforcement, call or email MST1 Jennifer Haggins, Marine Safety Unit Pittsburgh, U.S. Coast Guard; telephone 412-221-0807, email Jennifer.L.Haggins@uscg.mil.

SUPPLEMENTARY INFORMATION: The Coast Guard will enforce the safety zone for the annual “Upper Ohio Valley Italian Heritage Festival/Upper Ohio Valley Italian Heritage Festival Fireworks” land based fireworks display, listed in the regulations in 33 CFR 165.801, Table 1, Sector Ohio Valley, line 14 from 9 p.m. through 10:30 p.m., on July 22, 2017. Our Sector Ohio Valley Annual and Recurring Safety Zones, § 165.801, specifies the location of the regulated area for the Ohio River, Mile 90.0 to 90.5. Entry into the safety zone is prohibited unless authorized by the Captain of the Port Marine Safety Unit Pittsburgh (COTP) or a designated representative. Persons or vessels desiring to enter into or passage through the safety zone must request permission from the COTP or a designated representative. If permission is granted, all persons and vessels shall comply with the instructions of the COTP or designated representative.

This notice of enforcement is issued under authority of 33 CFR 165.801 and 5 U.S.C. 552(a). In addition to this notice of enforcement in the Federal Register, the Coast Guard will provide advance notification of this enforcement period via Local Notice to Mariners and updates via Marine Information Broadcasts.

Dated: June 28, 2017.
F. Smith,
Lieutenant Commander, U.S. Coast Guard, Captain of the Port Marine Safety Unit Pittsburgh, Acting.

[FR Doc. 2017-15370 Filed 7-20-17; 8:45 am]

BILLING CODE 9110-04-P